DEPARTMENT OF JUSTICE

Office of Justice Programs

28 CFR Part 90

[OJP Docket No. 1378]

RIN 1121-AA67

STOP Violence Against Women Formula Grant Program and STOP Violence Against Indian Women Discretionary Grant Program: Clarification of Match Requirement

AGENCY: Office on Violence Against Women, Office of Justice Programs, Department of Justice.

ACTION: Notice of proposed rule.

SUMMARY: This rule proposed to amend the regulations for the STOP (Services—Training—Officers—Prosecutors) Violence Against Women Formula Grant Program and the STOP Violence Against Indian Women Discretionary Grant Program in 28 CFR 90.17 and 90.55, respectively, to clarify the statutory provision in 42 U.S.C. 3796gg-1(f) requiring that each STOP fund grantee provide matching funds in an amount no less than 25% of the total costs of the projects described in the application for funds.

DATES: Written comments should be submitted by January 29, 2004.

ADDRESSES: Please send written comments, by U.S. mail, to: Marnie Shiels, Attorney-Advisor, Office on Violence Against Women, Office of Justice Programs, 810 7th Street, NW., Washington, DC 20531; or by e-mail, to: OVWRegs@ojp.usdoj.gov. To ensure proper handling, please reference OJP No. 1378 on your correspondence.

FOR FURTHER INFORMATION CONTACT: Marnie Shiels, Attorney-Advisor, Office on Violence Against Women, Office of Justice Programs, 810 7th Street, NW., Washington, DC 20531, telephone: (202) 307-6026.

SUPPLEMENTARY INFORMATION: The STOP and STOP Violence Against Indian Women (VAIW) Programs are codified at 42 U.S.C. 3796gg et seq. The final rule for these programs, 28 CFR Part 90 (Subparts B and C), was promulgated on April 18, 1995. The STOP grants are awarded to states and territories to develop and strengthen the criminal justice system's response to violence against women and to support and enhance services for victims. The STOP VAIW grants are intended to develop and strengthen tribal law enforcement and prosecution efforts to combat violence against Indian women and to develop and enhance services for victims of such crimes.

Because this is a technical amendment to clarify the matching requirement within the authorizing statute, the deadline for written comments is 30-days from the date of publication of this proposed rule in the Federal Register.

Statutory Match Requirement

The STOP statute, 42 U.S.C. 3796gg-1(f), provides: “The Federal share of a grant made under [these grant programs] may not exceed 75 percent of the total costs of the projects described in the application submitted.” In accordance with the statutory matching funds requirement, States and Indian tribal governments receiving funds under these two programs must ensure that only 75 percent of their total budget for the grant project comes from STOP grant funds. The purpose of requiring STOP formula fund grantees to provide a 25% match is to augment the resources available to the project from grant funds and to foster the dedication of State, local, and community resources to the purposes of the project. States and tribal governments must calculate “matching funds” based on their entire grant awards, including amounts that they are allowed to allocate for administrative expenses or indirect costs. (In the case of American Samoa, Guam, the Virgin Islands, and the Northern Mariana Islands, the requirement for matching funds (up to $200,000) is waived pursuant to 48 U.S.C. 1469a(d).)

Grantees may satisfy this match requirement with either cash or in-kind services and may require sub-grantees to provide all or part of the match. The costs of activities counted as matching funds must be directly related to the project goals and objectives. For Indian tribes, as provided in 42 U.S.C. 3796gg-1(g), appropriations for the activities of any agency of an Indian tribal government or of the Bureau of Indian Affairs performing law enforcement functions on any Indian lands may be used to provide the match. The Office of Justice Programs Financial Guide, Part III, Chapter 3, provides information on additional sources of matching funds.

By statute, grantees under the STOP Violence Against Women Formula Grant Program and the STOP Violence Against Indian Women Discretionary Grant Program are required to provide a 25% match—or 25% of the total funds associated with the project being funded. (Thus, OVW provides only 75% of the total funding for each project.) The current regulations prohibit state and Indian tribal government grantees from passing on any portion of the 25% match requirement to any subgrantees who are nonprofit, non-governmental victim services programs, even though the statute contains no such prohibition. The revised rule will conform OJP regulations to the statute by permitting grantees to require that those subgrantees provide a portion of the overall 25% match that is required for the project.

Executive Order 12866

This regulation has been drafted and reviewed in accordance with Executive Order 12866, section 1(b), Principles of Regulation. The Office of Justice Programs has determined that this rule is not a “significant regulatory action” under Executive Order 12866, section 3(f), Regulatory Planning and Review, and accordingly this rule has not been reviewed by the Office of Management and Budget.

Cost/Benefit Assessment

This proposed rule is a technical amendment that clarifies the match requirement for entities awarded funds under the STOP Violence Against Women Formula Grant Program and the STOP Violence Against Indian Women Discretionary Grant Programs. The only cost of this proposed rule is thus borne by grantees for whom the benefit of receiving funds outweighs any cost imposed by the matching funds requirement.

Executive Order 13132

This regulation will not have substantial direct effects on the States, on the relationship between the national government and the States, or on the distribution of power and responsibilities among the various levels of government. This proposed rule is a technical amendment that clarifies the match requirement for entities awarded funds under the STOP Violence Against Women Formula Grant Program and the STOP Violence Against Indian Women Discretionary Grant Programs, but has no effect on other funds granted to states. Therefore, in accordance with Executive Order 12612, it is determined that this rule does not have sufficient federalism implications to warrant preparation of a Federalism Assessment.

Regulatory Flexibility Act

The Office of Justice Programs, in accordance with the Regulatory Flexibility Act (5 U.S.C. 605(b)), has reviewed this regulation and by approving it certifies that this regulation will not have a significant economic impact upon a substantial number of small entities for the following reason: This proposed rule is a technical amendment that clarifies the match requirement for entities awarded funds under the STOP Violence Against Women Formula Grant Program and the STOP Violence Against Indian Women Discretionary Grant Programs, but has no effect on other funds.

Unfunded Mandates Reform Act of 1995

This rule will not result in the expenditure by State, local, and Tribal governments, in the aggregate, or by the private sector, of $100,000,000 or more in any one year, and it will not uniquely affect small governments. Therefore, no actions were deemed necessary under the provisions of the Unfunded Mandates Reform Act of 1995.

Small Business Regulatory Enforcement Fairness Act of 1996

This rule is not a major rule as defined by section 804 of the Small Business Regulatory Enforcement Fairness Act of 1996. This rule will not result in an annual effect on the economy of $100,000,000 or more; a major increase in cost or prices; or significant adverse effects on competition, employment, investment, productivity, innovation, or on the ability of United States-based companies to compete in domestic and export markets.

List of Subjects in 28 CFR Part 91

Grant programs, Judicial administration.

For the reason set forth in the preamble, the Office of Justice Programs proposes to amend 28 CFR Chapter I as follows:

PART 90—VIOLENCE AGAINST WOMEN

Subpart B—The STOP (Services—Training—Officers—Prosecutors) Violence Against Women Formula Grant Program

1. The authority citation for Part 90, subparts B and C, continues to read as follows:

Authority: 42 U.S.C. 3796gg et seq.

2. Paragraph (c) of § 90.17 is proposed to be revised to read as follows:

§ 90.17 Matching requirements.

* * * * *

(c) The match expenditures must be committed for each funded project under the grant, including administrative and indirect costs, and cannot be derived from other Federal funds.

* * * * *

Subpart C—Indian Tribal Governments Discretionary Program

3. Paragraph (c) of § 90.55 is proposed to be revised to read as follows:

§ 90.55 Matching requirements.

* * * * *

(c) The match expenditures must be committed for each funded project under the grant, including administrative and indirect costs, and, as provided in 42 U.S.C. § 3796gg-1(g), may be derived from appropriations for the activities of any agency of an Indian tribal government or of the Bureau of Indian Affairs performing law enforcement functions on any Indian lands.

* * * * *

Dated: December 22, 2003.
Diane M. Stuart,
Director, Office on Violence Against Women.

[FR Doc. 03-32017 Filed 12-29-03; 8:45 am]

BILLING CODE 4410-18-P